DEPARTMENT OF THE INTERIOR

Fish and Wildlife Service

[FWS-R3-ES-2014-N112]; [FVHC98210305870 XXX FF03E14000]

Final Southeast Missouri Ozarks Regional Restoration Plan and Environmental Assessment and Finding of No Significant Impact

AGENCY: Fish and Wildlife Service, Interior.

ACTION: Notice of availability

SUMMARY: This notice advises the public and other agencies of the availability of the Finding of No Significant Impact for the Final Southeast Missouri Ozarks Regional Restoration Plan and Environmental Assessment. The chosen alternative, Alternative D, provides a project selection process for natural resource-based restoration, using a tiered project selection process that evaluates the feasibility of primary restoration, compensatory restoration, and acquisition of equivalent resources. The Plan was written to facilitate the expenditure of restoration funds in the southeast Missouri Ozarks resulting from the release of mining-related hazardous substances. The restoration plan complies with statutory requirement under the Comprehensive Environmental Response, Compensation, and Liability Act, enabling the expenditures of recovered restoration funds to benefit natural resources. This notice is provided pursuant to Natural Resource Damage Assessment and Restoration regulations and National Environmental Policy Act regulations.

ADDRESSES:

• Internet: Copies of the Plan can viewed online at:

○ http://www.fws.gov/midwest/es/ec/nrda/SEMONRDA/index.html or

○ http://www.dnr.mo.gov/env/hwp/sfund/nrda.htm

• U.S. mail: Copies of the Plan can be requested from:

○ John Weber, Restoration Coordinator, U.S. Fish and Wildlife Service, 101 Park DeVille Dr., Suite A, Columbia, MO 65203; or

○ Tim Rielly, Assessment and Restoration Manager, Missouri Department of Natural Resources, P.O. Box 176, Jefferson City, MO 65102-0176.

• Email: You may also request copies of the Plan by sending electronic mail (email) to John_S_Weber@fws.gov or Tim.Rielly@dnr.mo.gov. Do not use any special characters or forms of encryption in your email.

FOR FURTHER INFORMATION CONTACT: John Weber, (573) 234-2132 (x177), or Tim Rielly, (573) 526-3353.

SUPPLEMENTARY INFORMATION: This notice advises the public and other agencies of the availability of the Finding of No Significant Impact (FONSI) for the Final Southeast Missouri Ozarks Regional Restoration Plan and Environmental Assessment (Plan). The following agencies formally selected Alternative D of the Plan through signing of the FONSI: The U.S. Department of the Interior (DOI), acting through the U.S. Fish and Wildlife Service (FWS); the United States Department of Agriculture, acting through the U.S. Forest Service (USFS); and the State of Missouri, acting through the Missouri Department of Natural Resources (MDNR). Alternative D provides a project selection process for natural resource-based restoration, using a tiered project selection process that evaluates the feasibility of primary restoration, compensatory restoration, and acquisition of equivalent resources. The Plan was written to facilitate the expenditure of restoration in the southeast Missouri Ozarks resulting from the release of mining-related hazardous substances.

The FWS, the USFS, and the MDNR (Trustees) are trustees for natural resources considered in the Plan, pursuant to subpart G of the National Oil and Hazardous Substances Pollution Contingency Plan (40 CFR 300.600 and 300.610) and Executive Order 12580. The Memorandum of Understanding Between the Missouri Department of Natural Resources, U.S. Department of Agriculture, and U.S. Department of the Interior establishes a Trustee Council charged with developing and implementing a restoration plan for ecological restoration in the southeast Missouri Ozarks. The Trustees followed the Natural Resource Damage Assessment and Restoration (NRDAR) regulations found at 43 CFR part 11 for the development of the Plan. The development of the restoration plan is required under section 111 of the Comprehensive Environmental Response, Compensation, and Liability Act (42 U.S.C. 111; CERCLA).

The objective of the NRDAR process is to compensate the public for losses to natural resources and their services that have been injured by releases of hazardous substances into the environment. The Comprehensive Environmental Response, Compensation, and Liability Act (CERCLA, more commonly known as the Federal “Superfund” law; 42 U.S.C. 9601, et seq.) and the Federal Water Pollution Control Act (commonly known as the Clean Water Act (CWA); 33 U.S.C. 1251, et seq.) authorize States, federally recognized tribes, and certain Federal agencies that have authority for natural resources “belonging to, managed by, held in trust by, appertaining to, or otherwise controlled by the United States” to act as “trustees” on behalf of the public, to restore, rehabilitate, replace, and/or acquire natural resources equivalent to those injured by releases of hazardous substances.

The Trustees have worked together to determine the appropriate restoration process to identify and select restoration projects to address natural resource injuries caused by the release of hazardous substances into the southeast Missouri Ozarks environment. The results of this administrative process are contained in a series of planning and decision documents that were published for public review on the following Web sites:

http://www.fws.gov/midwest/es/ec/nrda/SEMONRDA/index.html

http://www.dnr.mo.gov/env/hwp/sfund/nrda.htm

On September 20, 2013, the FWS published a Federal Register notice opening a 45-day public comment period on the Draft Southeast Missouri Ozarks Regional Restoration Plan and Environmental Assessment (78 FR 57875). In response to comments received, the Trustees extended the original public comment period for an additional 30 days to December 4, 2013. Comments received during the above public comment period were incorporated into the final document. This current notice of availability informs the public that the Trustees have formally selected Alternative D of the Plan through the signing of a Finding of No Significant Impact (FONSI).

Authority

This notice is provided pursuant to Natural Resource Damage Assessment and Restoration (NRDAR) regulations (43 CFR 11.81(d)(4)) and NEPA (National Environmental Policy Act) regulations (40 CFR 1506.6).

Dated: June 26, 2014.
Charles Wooley,
Acting Regional Director, Midwest Region, U.S. Fish and Wildlife Service.

[FR Doc. 2014-17408 Filed 7-23-14; 8:45 am]

BILLING CODE 4310-55-P